DEPARTMENT OF STATE

[Public Notice 5552]

Notice of Meeting of the Cultural Property Advisory Committee

In accordance with the provisions of the Convention on Cultural Property Implementation Act (19 U.S.C. 2601 et seq.) (the Act) there will be a meeting of the Cultural Property Advisory Committee on Wednesday, October 11, 2006, from approximately 9 a.m. to 5 p.m., and on Thursday, October 12, from approximately 9 a.m. to 1 p.m., at the Department of State, Annex 44, Room 840, 301 4th St., SW., Washington, DC. At this meeting, the Committee will conduct its ongoing review function with respect to the Memorandum of Understanding Between the Government of the United States of America and the Government of the Republic of Guatemala Concerning the Imposition of Import Restrictions on Archaeological Objects and Materials from the Pre-Columbian Cultures of Guatemala; and, with respect to the Memorandum of Understanding with the Government of the Republic of Mali Concerning the Imposition of Import Restrictions on Archaeological Material from the Region of the Niger River Valley and the Bandiagara Escarpment (Cliff). This meeting is for the Committee to satisfy its ongoing review responsibility of agreements pursuant to the Act. It will focus its attention on Article II of the MOUs. This is not a meeting to consider extension of the MOUs. Such a meeting or meetings will be scheduled in the future and at that time a public session will be held.

The Committee's responsibilities are carried out in accordance with provisions of the Convention on Cultural Property Implementation Act (19 U.S.C. 2601 et seq.). The U.S.—Guatemala MOU, the U.S.— Mali MOU, the designated lists of restricted categories, the text of the Act, and related information may be found at http://exchanges.state.gov/culprop.

The meeting on October 11-12, will be closed pursuant to 5 U.S.C. 552b(c)(9)(B) and 19 U.S.C. 2605(h).

Dated: September 21, 2006.
Dina Habib Powell,
Assistant Secretary for Educational and Cultural Affairs, Department of State.

[FR Doc. E6-16196 Filed 9-29-06; 8:45 am]

BILLING CODE 4710-05-P